DEPARTMENT OF HOUSING AND URBAN DEVELOPMENT

[Docket No. FR-7011-N-32]

30-Day Notice of Proposed Information Collection: Data Collection for the HUD Secretary's Awards

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: September 12, 2019.

ADDRESSES: Interested persons are invited to submit comments regarding this proposal. Comments should refer to the proposal by name and/or OMB Control Number and should be sent to: HUD Desk Officer, Office of Management and Budget, New Executive Office Building, Washington, DC 20503; fax: 202-395-5806, Email: OIRA_Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on Thursday, April 5, 2019 at 84 FR 13710.

A. Overview of Information Collection

Title of Information Collection: Data Collection for the HUD Secretary's Awards.

OMB Approval Number: 2528-New.

Type of Request: New collection.

Form Number: TBD.

Information collection | Number of respondents | Frequency of response | Responses per annum | Burden hours per response | Annual burden hours | Hourly cost per response | Annual cost
The Secretary's Award for Public-Philanthropic Partnerships—Housing and Community Development in Action | 50.00 | 1.00 | 50.00 | 3.00 | 150.00 | $15.92 | $2,388.00
The Secretary's Award for Healthy Homes | 30.00 | 1.00 | 30.00 | 3.00 | 90.00 | 15.92 | 1,432.80
ACHP/HUD Secretary's Award for Excellence in Historic Preservation | 50.00 | 1.00 | 50.00 | 3.00 | 150.00 | 15.92 | 2,388.00
American Planning Association-HUD Secretary's Opportunity and Empowerment | 50.00 | 1.00 | 50.00 | 3.00 | 150.00 | 15.92 | 2,388.00
American Institute of Architects/HUD Secretary's Housing and Community Design | 50.00 | 1.00 | 50.00 | 3.00 | 150.00 | 15.92 | 2,388.00
HUD Innovation in Affordable Housing Student Competition | 50.00 | 1.00 | 50.00 | 3.00 | 150.00 | 15.92 | 2,388.00
Total | 280.00 |  | 280.00 |  | 840.00 |  | 13,372.80

Description of the need for the information and proposed use: HUD seeks to collect information that will be used to make the following HUD Secretary's Awards: (a) The Secretary's Award for Public-Philanthropic Partnerships—Housing and Community Development in Action, (b) the Secretary's Award for Healthy Homes, (c) the ACHP/HUD Secretary's Award for Excellence in Historic Preservation, (d) American Planning Association-Opportunity and Empowerment, and American Institute of Architects-Housing and Community Design.

On an annual basis, HUD accepts nominations for the above listed awards. A common application form containing general information will streamline information collection across these five award programs. Each non-monetary award recognizes awardees for their innovation and commitment to raising industry standards in Housing and Community Development. Below is a brief description of each of the five awards programs.

The Secretary's Award for Public-Philanthropic Partnerships—Housing and Community Development in Action

HUD, in partnership with the Council on Foundations, announces the HUD's Secretary's Awards for Public-Philanthropic Partnerships which recognize excellence in partnerships that have both transformed the relationships between the sectors and led to measurable benefits in terms of increased economic development, health, safety, education, disaster resilience, inclusivity and cultural opportunities, and/or housing access for low- and moderate-income families. By strengthening the connection between the HUD and philanthropy, these awards highlight the power of collective impact that can be achieved through public-philanthropic partnerships between government entities and foundations.

The Secretary's Award for Healthy Homes

HUD, through its Office of Lead Hazard Control and Healthy Homes (OLHCHH), and in partnership with the National Environmental Health Association (NEHA), recognizes excellence in making indoor environments healthier through healthy homes research, education, and through program delivery, especially in diverse, low to moderate income communities.

ACHP/HUD Secretary's Award for Excellence in Historic Preservation

HUD, through its Office of Policy Development and Research and in partnership with The Advisory Council on Historic Preservation (ACHP) recognizes developers, organizations and agencies for their success in advancing the goals of historic preservation while providing affordable housing and/or expanded economic opportunities for low-and moderate-income families and individuals.

American Planning Association—Opportunity and Empowerment

HUD, through its Office of Policy Development and Research, and in partnership with the American Planning Association, honors excellence in community planning that has led to measurable benefits in terms of increased economic development, employment, education, or housing choice and mobility for low- and moderate-income residents. The award stresses tangible results and recognizes the planning discipline as an important community resource. The award emphasizes how creative housing, economic development, and private investments are used in, or in tandem with, a comprehensive community development plan.

American Institute of Architects—Housing and Community Design

HUD, through its Office of Policy Development and Research, and in conjunction with the Residential Knowledge Community of The American Institute of Architects (AIA), recognizes excellence in affordable housing, community-based design, participatory design, and accessibility. These awards demonstrate that design matters and provide examples of important benchmarks in the housing industry. Awards are offered in four categories: Community-Informed Design, Creating Community Connection, Excellence in Affordable Housing Design, and Housing Accessibility—Alan J. Rothman.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: August 1, 2019.
Anna P. Guido,
Department Reports Management Officer, Office of the Chief Information Officer.

[FR Doc. 2019-17333 Filed 8-12-19; 8:45 am]

BILLING CODE 4210-67-P